UNIFORMED SERVICES UNIVERSITY OF THE HEALTH SCIENCES

Sunshine Act Meeting Notice

Agency Holding the Meeting: Uniformed Services University of the Health Sciences.

Time and Date: 8 a.m. to 4 p.m., May 16, 2003.

Place: Uniformed Services University of the Health Sciences, Board of Regents Conference Room (D3001), 4301 Jones Bridge Road, Bethesda, MD 20814-4799.

Status: Open—under “Government in the Sunshine Act” (5 U.S.C. 552b(e)(3)).

Matters to Be Considered: 8 a.m. Meeting—Board of Regents

(1) Approval of Minutes—February 4, 2003.

(2) Faculty Matters.

(3) Departmental Reports.

(4) Financial Report.

(5) Report—President, USUHS.

(6) Report—Dean, School of Medicine.

(7) Report—Dean, Graduate School of Nursing.

(8) Comments—Chairman, Board of Regents.

(9) New Business.

Contact Person For More Information: Mr. Bobby D. Anderson, Executive Secretary, Board of Regents, (301) 295-3116.

Dated: April 15, 2003.
Patricia L. Toppings,
Alternate OSD Federal Register Liaison Officer, Department of Defense.

[FR Doc. 03-9835 Filed 4-16-03; 3:32 pm]

BILLING CODE 5001-08-M